DEPARTMENT OF JUSTICE

Notice of Lodging of Consent Decree Pursuant to the Comprehensive Environmental Response, Compensation and Liability Act

In accordance with 28 CFR 50.7 and Section 122 of the Comprehensive Environmental Response, Compensation and Liability Act (“CERCLA”), 42 U.S.C. 9622, the Department of Justice gives notice that a proposed consent decree in United States v. Norrell Dearing, et al. v. First Nationwide Financial Corp., et al., Civil No. 4:89-CV-2002 (N.D. Ohio), was lodged with the United States District Court for the Northern District of Ohio on September 14, 2001, pertaining to the Old Mill Superfund Site (the “Site”), located in the Village of Rock Creek, Ashtabula County, Ohio. The proposed consent decree would resolve the United States' civil claims under Sections 106 and 107 of CERCLA, 42 U.S.C. 9606 and 9607, and Section 7003 of the Solid Waste Disposal Act, as amended (“RCRA”), 42 U.S.C. 6973, against seven defendants, and claims asserted against four third-party defendants, named in this action.

Under the proposed consent decree, five Settling Performing Parties (Lord Corp., Meritor Automotive, Inc., Molded Fiberglass Cos., Premix, Inc., and The Stackpole Corp.) would be obligated to finance and perform certain changes to the remedy, and operation and maintenance (“O&M”) of the remedial action, at the Site as specified in the U.S. Environmental Protection Agency's (“EPA's”) Record of Decision (“ROD”), issued August 7, 1985, at an estimated net present value cost of $1.8 million. the Settling Performing Parties would be required to reimburse the Superfund $7.325 million toward the United States' past costs at the Site. The Settling Performing Parties would also be required to reimburse the State of Ohio (the “State”) $0.76 million toward the State's past costs at the Site. In addition, the Settling Performing Parties would be required to reimburse EPA's and the State's future response costs at the Site, as well as document O&M costs incurred by the State after August 1, 2001, through the date of assumption of the O&M by the Settling Performing Parties. The remaining six Settling Non-Performing Parties (Aardvark Associates, Inc.; Combustion Engineering, Inc.; First Nationwide National Bank; Formica Corporation; Jack Webb; and Millenium Holdings, Inc.) will make payments to the Settling Performing Parties to help finance the Settling Performing Parties' obligations under the proposed consent decree.

The Department of Justice will receive, for a period of thirty (30) days from the date of this publication, comments relating to the proposed consent decree. Comments should be addressed to the Assistant Attorney General, Environment and Natural Resources Division, United States Department of Justice, Washington, D.C. 20530, and should refer to United States v. Norell Dearing, et al. v. First Nationwide Financial Corp., et al., Civil No. 4:89-CV-2002 (N.D. Ohio), and DOJ Reference No. 90-11-2-63A. Commenters may request an opportunity for a public meeting in the affected area, in accordance with Section 7003(d) of RCRA, 42 U.S.C. § 6973(d).

The proposed consent decree may be examined at: (1) the Office of the United States Attorney for the Northern District of Ohio, 1800 Bank One Center, 600 Superior Avenue East, Cleveland, Ohio 44114-2600 (216-622-3600); and (2) the United States Environmental Protection Agency (Region 5), 77 West Jackson Boulevard, Chicago, Illinois 60604-3590 (contact: Nola M. Hicks (312-886-7949)). A copy of the proposed consent decree may be obtained by mail from the Consent Decree Library, U.S. Department of Justice, P.O. Box 7611, Washington, D.C. 20044-7611. In requesting a copy, please refer to the referenced case and DOJ Reference Number and enclose a check in the amount of $29.00 for the consent decree only (116 pages, at 25 cents per page reproduction costs), or $45.75 for the consent decree and all appendices (183 pages), made payable to the Consent Decree Library.

William D. Brighton,
Assistant Chief, Environmental Enforcement Section, Environmental and Natural Resources Division.

[FR Doc. 01-23998 Filed 9-25-01; 8:45 am]

BILLING CODE 4410-15-M